DEPARTMENT OF THE INTERIOR

Bureau of Land Management

[LLAK910000-L13100000.PP0000-LXSIARAC0000]

Notice of Public Meeting, BLM-Alaska Resource Advisory Council

AGENCY: Bureau of Land Management, Alaska State Office, Interior.

ACTION: Notice of public meeting.

SUMMARY: In accordance with the Federal Land Policy and Management Act (FLPMA) and the Federal Advisory Committee Act of 1972 (FACA), the U.S. Department of the Interior, Bureau of Land Management (BLM) Alaska Resource Advisory Council (RAC) will meet as indicated below.

DATES: The meeting will be held October 29-30, 2013 at the Office of Aviation Services located at 4405 Lear Court, Anchorage, Alaska 99502-1032. The meeting starts at 9 a.m. each day in training room #109. The council will accept comments from the public on Tuesday, October 29 from 3-4 p.m.

FOR FURTHER INFORMATION CONTACT: Thom Jennings, RAC Coordinator, BLM-Alaska State Office, 222 W. 7th Avenue #13, Anchorage, AK 99513. Telephone 907-271-3335 or 907-271-3322 or email tjenning@blm.gov. Persons who use a telecommunications device for the deaf (TDD) may call the Federal Information Relay Service (FIRS) at 1-800-877-8339 to contact the above individual during normal business hours. The FIRS is available 24 hours a day, seven days a week, to leave a message or question with the above individual. You will receive a reply during normal business hours.

SUPPLEMENTARY INFORMATION: The 15-member Council advises the Secretary of the Interior, through the Bureau of Land Management, on a variety of planning and management issues associated with public land management in Alaska. At this meeting, topics planned for discussion include:

• Land Use Planning.

• Integrated Arctic Management and Scenario Planning.

• New Placer Mining Policies.

• Update on Land Transfer Program.

• Update on the National Petroleum Reserve in Alaska.

• Other topics of interest to the RAC.

All meetings are open to the public. During the public comment period, depending on the number of people wishing to comment and time available, time for individual oral comments may be limited. Please be prepared to submit written comments if necessary. Before including your address, phone number, email address, or other personal identifying information in your comment, you should be aware that your entire comment—including your personal identifying information—may be made publicly available at any time. While you can ask us in your comment to withhold your personal identifying information from public review, we cannot guarantee that we will be able to do so. Individuals who plan to attend and need special assistance, such as sign language interpretation, transportation, or other reasonable accommodations, should contact the BLM RAC Coordinator listed above.

Dated: September 24, 2013.
Ted A. Murphy,
Acting State Director.

[FR Doc. 2013-23917 Filed 9-30-13; 8:45 am]

BILLING CODE 4310-JA-P